NATIONAL ARCHIVES AND RECORDS ADMINISTRATION

[NARA-2020-019]

Agency Information Collection Activities: Proposed Collection; Comment Request

AGENCY: National Archives and Records Administration (NARA).

ACTION: Notice.

SUMMARY: We are proposing to request that OMB renew its approval of our currently-approved information collection on applying to use space in one of our Presidential libraries. People submit this application to request the use of space in the library for a privately sponsored activity. We invite you to comment on the proposed information collection.

DATES: We must receive comments in writing by April 13, 2020.

ADDRESSES: Send comments to Tamee Fechhelm, by mail at Paperwork Reduction Act Comments (MP), Room 4100; National Archives and Records Administration; 8601 Adelphi Rd; College Park, MD 20740-6001, by fax at 301-837-0319, or by email at tamee.fechhelm@nara.gov.

FOR FURTHER INFORMATION CONTACT: Tamee Fechhelm, by phone at 301.837.1694 or by fax at 301.837.0319, with requests for additional information or copies of the proposed information collection and supporting statement.

SUPPLEMENTARY INFORMATION: Pursuant to the Paperwork Reduction Act of 1995 (Pub. L. 104-13), we invite people to comment on proposed information collections. The comments and suggestions should address one or more of the following points: (a) whether the proposed information collection is necessary for us to properly perform our agency's functions; (b) the accuracy of our estimate of the burden of the proposed information collection; (c) ways to enhance the quality, utility, and clarity of the information to be collected; (d) ways to minimize the burden of the collection on respondents, including the use of information technology; and (e) whether small businesses are affected by this collection. We will summarize the comments you submit and include them in our request to OMB for approval. All comments will become a matter of public record. In this notice, we are soliciting comments concerning the following information collection:

Title: Application and Permit for Use of Space in Presidential Library and Grounds.

OMB number: 3095-0024.

Agency form number: NA Form 16011.

Type of review: Regular.

Affected public: Private organizations.

Estimated number of respondents: 600.

Estimated time per response: 20 minutes.

Frequency of response: On occasion.

Estimated total annual burden hours: 200 hours.

Abstract: The information collection is prescribed by 36 CFR 1280. Requesters submit the application to request the use of space in a Presidential library for a privately sponsored activity. We use the information to determine whether the requested use meets the criteria in 36 CFR 1280 and to schedule the date.

Swarnali Haldar,
Executive for Information Services/CIO.

[FR Doc. 2020-02692 Filed 2-10-20; 8:45 am]

BILLING CODE 7515-01-P